DEPARTMENT OF TRANSPORTATION

Federal Aviation Administration

Notice of Intent of Waiver With Respect to Land; Sioux Falls Regional Airport, Sioux Falls, South Dakota

AGENCY: Federal Aviation Administration (FAA), DOT.

ACTION: Notice.

SUMMARY: The FAA is considering a proposal to change approximately 64.93 acres of airport land from aeronautical use to non-aeronautical use and to authorize the sale of airport property located at the Sioux Falls Regional Airport, Sioux Falls, South Dakota. The property is made up of three parcels. Parcel 1 is approximately 16.40 acres, located on the southwest side of the airport and is currently used as a City storage lot. Parcel 2 is approximately 39.16 acres, located under the approach surface to Runway 3 and is currently used as part of the Elmwood Golf Course. Parcel 3 is approximately 9.37 acres, located north of National Guard Drive and is currently vacant land.

DATES: Comments must be received on or before July 5, 2022.

ADDRESSES: Documents are available for review by appointment at the FAA Dakota-Minnesota Airports District Office, Jeremy McLeod, Program Manager, 2301 University Dr., Bldg. 23B, Bismarck, ND 58504-7595, Telephone: (701)323-7381.

Written comments on the Sponsor's request must be delivered or mailed to: Jeremy McLeod, Program Manager, Federal Aviation Administration, Dakota-Minnesota Airports District Office, 2301 University Dr., Bldg. 23B, Bismarck, ND 58504-7595, Telephone Number: 701-323-7381.

FOR FURTHER INFORMATION CONTACT: Jeremy McLeod, Program Manager, Federal Aviation Administration, Dakota-Minnesota Airports District Office, 2301 University Dr., Bldg. 23B, Bismarck, ND 58504-7595, Telephone Number: 701-323-7381.

SUPPLEMENTARY INFORMATION: In accordance with section 47107(h) of Title 49, United States Code, this notice is required to be published in the Federal Register 30 days before modifying the land-use assurance that requires the property to be used for an aeronautical purpose.

Parcel 1 is currently used by the City of Sioux Falls as a City storage lot and its proposed future use will remain the same. The City of Sioux Falls originally acquired this parcel as part of a Surplus Property Quitclaim deed from the United States of America, acting by and through the War Assets Administrator on December 19, 1947. Parcel 2 is currently used as part of the City of Sioux Falls Elmwood Golf Course and its proposed future use will remain the same. This parcel was acquired by the City of Sioux Falls on March 31, 1942. Parcel 3 is currently vacant land the airport leases out for haying and is proposed to continue to be used for airport compatible non-aeronautical purposes. This parcel was acquired by the City of Sioux Falls on December 27, 1965. On July 8, 1987, the City of Sioux Falls, transferred ownership of the airport, including these three parcels to the Sioux Falls Regional Airport Authority. The Sioux Falls Regional Airport Authority is proposing to grant these three parcels of airport property to the City of Sioux Falls. In return, the City will deed 2.65 acres of City property located within the Runway 3/21 Safety Area and approximately 273.3 acres of easements that will protect the Runway 3/21 Runway Protection Zone and Approach surfaces. This proposed swap of land is advantageous to the airport and enhances the Sioux Falls Regional Airport Authority's ability to ensure future compatible land use within the Runway Protection Zones and Approach surfaces for Runway 3/21.

The disposition of proceeds from the sale of the airport property will be in accordance with FAA's Policy and Procedures Concerning the Use of Airport Revenue, published in the Federal Register on February 16, 1999 (64 FR 7696).

This notice announces that the FAA is considering the release of the subject airport property at the Sioux Falls Regional Airport, Sioux Falls, South Dakota from federal land covenants, subject to a reservation for continuing right of flight as well as restrictions on the released property as required in FAA Order 5190.6B section 22.16. Approval does not constitute a commitment by the FAA to financially assist in the disposal of the subject airport property nor a determination of eligibility for grant-in-aid funding from the FAA.

The legal descriptions for the three parcels are as follows:

Parcel 1—Tract 3 of County Auditor's Subdivision in the SE ⅓ of Section 6, Township 101N, Range 49 west of the 5th Principal Meridian.

Parcel 2—Tract 2 of Airport 4th Addition to the City of Sioux Falls, Minnehaha County, South Dakota.

Parcel 3—Tract 1 of Airport 6th Addition to the City of Sioux Falls, Minnehaha County, South Dakota.

Issued in Minneapolis, Minnesota on May 31, 2022.
E. Lindsay Butler,
Manager, Dakota-Minnesota Airports District Office, FAA, Great Lakes Region.

[FR Doc. 2022-11976 Filed 6-2-22; 8:45 am]

BILLING CODE 4910-13-P